ENVIRONMENTAL PROTECTION AGENCY

[FRL-7621-7]

Proposed Settlement Agreement, Clean Air Act Citizen Suit

AGENCY: Environmental Protection Agency (EPA).

ACTION: Notice of proposed settlement agreement; request for public comment.

SUMMARY: In accordance with section 113(g) of the Clean Air Act, as amended (“Act”), 42 U.S.C. 7413(g), notice is hereby given of a proposed settlement agreement, to address a lawsuit filed by the Utility Air Regulatory Group in the U.S. Court of Appeals for the District of Columbia: Utility Air Regulatory Group v. EPA, No. 03-1168 (D.C. Cir.). Petitioners challenge EPA's final rule entitled “Revision of the Guidance on Air Quality Models: Adoption of a Preferred Long Range Transportation Model and Other Revisions,” published at 68 FR 18444 (April 5, 2003), adopting the CALPUFF modeling system as an additional air quality model under the Guideline on Air Quality Models, 40 CFR part 51. Under the terms of the proposed settlement agreement, EPA would issue three documents if, after review of public comments received in response to this Notice, it elects to proceed with the settlement agreement.

DATES: Written comments on the proposed settlement agreement must be received by March 15, 2004.

ADDRESSES: Submit your comments, identified by docket ID number OGC-2004-0001, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in WordPerfect or ASCII file, avoiding the use of special characters and any form of encryption, and may be mailed to the mailing address above.

FOR FURTHER INFORMATION CONTACT: Roland Dubois, Office of General Counsel (2333A), U.S. Environmental Protection Agency, 1200 Pennsylvania Ave., NW., Washington, DC 20460. telephone: (202) 564-5626.

SUPPLEMENTARY INFORMATION:

I. Additional Information About the Proposed Settlement Agreement

Petitioners raise issues concerning: (1) The adequacy of CALPUFF air dispersion model to address certain instances of long range transport, (2) the availability of EPA-approved version of CALPUFF model on model developer's website potentially allowing model developer to make unauthorized changes to the model, and (3) the potential for misinterpretation of statements in preamble to April 5, 2003, final rule (68 FR 18444) discussing the role of federal land managers in evaluating air quality related values impacts.

Under the Settlement Agreement, EPA would issue three documents: (1) A guidance document for using CALPUFF to model long range pollutant transport, (2) a letter to the CALPUFF model developer describing procedures for EPA approval of changes to the EPA-approved version of the CALPUFF model, and (3) a letter to Petitioner's counsel clarifying EPA's statement in the preamble to the rule regarding the role of federal land managers in evaluating air quality related values impacts.

For a period of thirty (30) days following the date of publication of this notice, the Agency will receive written comments relating to the proposed settlement agreement from persons who were not named as parties to the litigation in question. The Agency will review and consider comments received, and will then: (1) Consent to the proposed settlement, (2) make any modifications deemed necessary or appropriate prior to consenting to the proposed settlement, or (3) withhold consent to the proposed settlement.

II. Additional Information About Commenting on the Proposed Settlement Agreement

A. How Can I Get a Copy of the Settlement Agreement?

EPA has established an official public docket for this action under Docket ID No. OGC-2004-0001 which contains a copy of the settlement agreement and the three documents EPA would sign pursuant to the settlement agreement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or on paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: February 4, 2004.
Lisa K. Friedman,
Associate General Counsel, Air and Radiation Law Office, Office of General Counsel.

[FR Doc. 04-3088 Filed 2-11-04; 8:45 am]

BILLING CODE 6560-50-P